DEPARTMENT OF HOMELAND SECURITY

Coast Guard

[USCG-2003-16728]

Maritime Security Directives (MARSEC Directives) 104-1, 104-2, 104-3, 104-4, 105-1, 105-2, 105-3 and 106-1; Performance Standards for Cruise Ships and Facilities, Passenger Vessels/Ferryboats and Facilities, Cargo/Other Commercial Vessels and Facilities, Mobile Oil Drilling Units/Off-Shore Supply Vessels, and Outer Continental Shelf (OCS) Facilities

AGENCY: Coast Guard, DHS.

ACTION: Notice of availability.

SUMMARY: The Coast Guard announces the availability of MARSEC Directives 104-01, 104-02, 104-03, 104-4, 105-01, 105-02, 105-03, and 106-1. The MARSEC Directives provide performance standards to assist facility and vessel owners/operators with developing facility and vessel security plans that comport with national maritime security initiatives. Information within the MARSEC Directives is designated sensitive security information (SSI) and is not subject to public release.

DATES: The MARSEC Directives listed above will be available on December 22, 2003.

ADDRESSES: The MARSEC Directives listed above are available at the following U.S. Coast Guard Marine Safety Offices:

Boston; Tel (617) 223-3000, 455 Commercial St., Boston, MA 02109-1096.

Portland; Tel (207) 780-3251, 103 Commercial St., Portland, ME 04101-4726.

Providence; Tel (401) 435-2300, 20 Risho Ave. East, Providence, RI 02914-1208.

Group/MSO Long Island Sound; Tel (203) 468-4400, 120 Woodward Ave., New Haven, CT 06512-3698.

New York; Tel (718) 354-4003 212, Coast Guard Dr, Staten Ils, NY 10305.

Baltimore; Tel (410) 576-2561, 2401 Hawkins Point Rd, Baltimore, MD 21226-5000.

Philadelphia; Tel (215) 271-4800, One Washington Ave., Philadelphia, PA 19147-4395.

Hampton Roads; Tel (757) 668-5510, Norfolk Federal Bldg., 200 Granby Mall, Suite 700, Norfolk, VA 23510-1888.

Wilmington; Tel (910) 772-2200, 400 Medical Center Dr., Wilmington, NC 28405-1816.

Miami; Tel (305) 535-8705, 100 MacArthur Cswy, Miami, FL 33139.

Tampa; Tel (813) 228-2191, 155 Columbia Dr., Tampa, FL 33606-3598.

Jacksonville; Tel (904) 232-2640, 7820 Arlington Expy. Suite 400, Jacksonville, FL 32211-7445.

Savannah; Tel (912) 652-4353, Juliette G. Low Federal Bldg., 100 W. Oglethorpe Ave., Suite 1017, Savannah, GA 31401.

Charleston; Tel (843) 724-7683, 196 Tradd St., Charleston, SC 29401-1817.

San Juan; Tel (787) 706-2400, P.O. Box 71526, San Juan, PR 00936-8626.

St. Louis; Tel (314) 539-3091, 1222 Spruce St., St. Louis, MO 63103-2835.

Memphis; Tel (901) 544-3941, 200 Jefferson Ave., Suite 1301, Memphis, TN 38103-2300.

Paducah; Tel (270) 442-1621, 225 Tully St. Paducah, KY 42003-0170.

Pittsburgh; Tel (412) 644-5808, Suite 1150, Kossman Bldg., 100 Forbes Ave., Pittsburgh, PA 15222-1371.

Huntington; Tel (304) 529-5524, 1415 6th Ave., Huntington, WV 25701-2420.

Louisville; Tel (502) 582-5194, 600 Martin Luther King Jr. Place Rm. 360, Louisville, KY 40202-2230.

Mobile; Tel (251) 441-5201, South Broad St., Bldg. 102, Mobile, AL 36615-1390.

Corpus Christi; Tel (361) 888-3162, 555 N. Carancahua Street, Suite 500, Corpus Christi, TX 78478.

Port Arthur; Tel (409) 723-6509, Federal Bldg, 2875 Jimmy Johnson Blvd., Port Arthur, TX 77640-2099.

Houston-Galveston; Tel (713)671-5199, 9640 Clinton Drive, Galena Park, TX 77029.

New Orleans; Tel (504) 589-6196, 1615 Poydras St. #77, New Orleans, LA 70112-1254.

Morgan City; Tel (985) 380-5305, 800 David Dr., Rm. 232 Morgan City, LA 70380-1304.

Sault Ste. Marie; Tel (906) 635-3220, 337 Water Street, Sault Ste. Marie, MI 49783-9501.

Chicago; Tel (630) 986-2155, 215 West 83rd St., Suite D, Burr Ridge, IL 60521-7059.

Milwaukee; Tel (414) 747-7155, 2420 S. Lincoln Memorial Dr., Milwaukee, WI 53207-1997.

Detroit; Tel (313) 568-9580, 110 Mt. Elliott Ave., Detroit, MI 48207-4380.

Toledo; Tel (419) 259-6372, 420 Madison Ave., Suite 700, Toledo, OH 43604-1265.

Cleveland; Tel (216) 937-0111, 1055 East Ninth St., Cleveland, OH 44114-1092.

Buffalo; Tel (716) 843-9570, 1 Fuhrmann Blvd., Buffalo, NY 14203-3189

Duluth; Tel (218) 720-5286, 600 S. Lake Ave., Duluth, MN 55802-2352.

San Diego; Tel (619) 683-6500, 2716 North Harbor Dr., San Diego, CA 92101-1064.

San Francisco Bay; Tel (510) 437-3135, Coast Guard Island, Bldg. 14 Alameda, CA 94501-5100.

Los Angeles-Long Beach; Tel (562) 980-4429, 1001 S. Seaside Ave, Bldg 20, San Pedro, CA 90731-0208.

Portland; Tel (503) 240-9310, 6767 N. Basin Ave., Portland, OR 97217-3992.

Puget Sound; Tel (206) 217-6200, 1519 Alaskan Way South Bldg. 1, Seattle, WA 98134-1192.

Honolulu; Tel (808) 522-8251, 433 Ala Moana Blvd., Pier 4, Honolulu, HI 96813-4909.

Guam; Tel (671) 339-2001, PSC 455, Box 176, FPO AP 96540-1056.

Anchorage; Tel (907) 271-6700, 510 L. St., Suite 100, Anchorage, AK 99501-1946.

Juneau; Tel (907) 463-2450, 2760 Sherwood Lane, Suite 2A, Juneau, AK 99801-8545.

Prince William Sound; Tel (907) 835-7200, P.O. Box 486, 105 Clifton Dr., Valdez, AK 99686-0486.

FOR FURTHER INFORMATION CONTACT: If you have questions regarding this notice, call LT Bruce Walker, U.S. Coast Guard, telephone 202-267-4148.

SUPPLEMENTARY INFORMATION:

What Action Is the Coast Guard Taking?

The Coast Guard is promulgating MARSEC Directives for those owners and operators of vessels and facilities subject to 33 CFR parts 104, 105, or 106.

(a) MARSEC Directives 104-1 and 104-2 applies to U.S. and foreign cruise ships, passenger vessels, and ferryboats that are subject to 33 CFR Part 104 that operate in U.S. waters.

(b) MARSEC Directive 104-3 applies to U.S. cargo, towing, and other commercial vessels subject to 33 CFR Part 104 that operate in U.S. waters. Foreign cargo and other commercial vessels subject to the International Ship and Port Facility Security (ISPS) Code are not subject to the MARSEC Directives; however, implementation of their security plans will be reviewed during Port State Control examinations.

(c) MARSEC Directive 104-4 applies to U.S. Mobile Offshore Drilling Units and offshore supply vessels subject to 33 CFR part 104 that operate in waters subject to U.S. jurisdiction.

(d) MARSEC Directive 105-1 applies to facilities in the U.S. subject to 33 CFR part 105 that receive U.S. and foreign cruise ships.

(e) MARSEC Directive 105-2 applies to facilities in the U.S. subject to 33 CFR part 105 that receive U.S. and foreign passenger vessels and ferryboats.

(f) MARSEC Directive 105-3 applies to cargo and other commercial facilities in the U.S. subject to 33 CFR Part 105 that receive vessels and barges subject to 33 CFR 104.105.

(g) MARSEC Directive 106-1 applies to Outer Continental Shelf facilities operating in U.S. waters and not subject to 33 CFR part 104.

Owners and operators have the primary responsibility for ensuring the security of their vessels and facilities. Owners and operators must include the performance standards listed in the MARSEC Directives in their vessel and facility security plans.

The performance standards do not impose new industry requirements but provide supplemental direction to assist with the development of vessel and facility security plans required by 33 CFR parts 104, 105, and 106.

To ensure these performance standards are disseminated efficiently and consistently, Coast Guard Area/District Commanders and COTPs will notify appropriate owners and operators of vessels and/or facilities regulated under 33 CFR parts 104, 105 and 106. The COTP or Area/District Commander will confirm, prior to distributing the MARSEC Directive, that the individual(s) is a “covered person” with a “need to know”, and that the MARSEC Directive will be safeguarded as SSI as defined in 49 CFR part 1520.

Owners/operators of vessels and facilities regulated under 33 CFR parts 104, 105, and 106 may also contact the local COTP to obtain a copy of the applicable MARSEC Directive. Local COTP contact information can be found in the ADDRESSES section of this notice.

Why Is the Coast Guard Taking This Action?

The Coast Guard is issuing these MARSEC Directives to assist owners and operators of the affected maritime industries in developing vessel and security plans required by 33 CFR parts 104 through 106.

Each MARSEC Directive contains SSI. If disclosed, the SSI could be used to subvert or exploit the security programs of vessels, facilities, or ports. Therefore, the MARSEC Directives are not subject to public disclosure, in accordance with 46 U.S.C. 40119.

Since MARSEC Directives 104-1 thru 104-4, 105-1 thru 105-3, and 106-1 are issued to protect national security and to preserve the rights and obligations of the U.S. with regards to maritime security, the Coast Guard has determined that the issuance of these MARSEC Directives do not fall within the requirements of the Administrative Procedure Act by virtue of the military and foreign affairs exemption (5 U.S.C. 553(a)(1)). Furthermore, the basis for the MARSEC Directives would also constitute “good cause” within the meaning of the Administrative Procedure Act (5 U.S.C. 553(b)(3)(B) and (d)(3)) regarding notice and comment rulemaking and effective dates since it would be contrary to the public interest and impracticable to provide SSI relating to maritime security and methods of detection, deterrence, and response in a public forum.

Dated: December 15, 2003.
L.L. Hereth,
Rear Admiral, U.S. Coast Guard, Director of Port Security.

[FR Doc. 03-31390 Filed 12-19-03; 8:45 am]

BILLING CODE 4910-15-P